DEPARTMENT OF AGRICULTURE

Rural Utilities Service

Information Collection Activity; Comment Request

AGENCY: Rural Utilities Service, USDA.

ACTION: Notice and request for comments.

SUMMARY: In accordance with the Paperwork Reduction Act of 1995 (44 U.S.C. Chapter 35, as amended), the Rural Utilities Service (RUS) invites comments on this information collection for which the Agency intends to request approval from the Office of Management and Budget (OMB).

DATES: Comments on this notice must be received by May 9, 2011.

FOR FURTHER INFORMATION CONTACT: Michele Brooks, Director, Program Development and Regulatory Analysis, USDA-Rural Utilities Service, 1400 Independence Avenue, SW., STOP 1522, Room 5159-S, Washington, DC 20250-1522. Telephone: (202) 690-1078. Fax: (202) 720-8435. E-mail: michele.brooks@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that Rural Development Utilities Programs is submitting to OMB for approval.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Michele Brooks, Director, Program Development and Regulatory Analysis, USDA-Rural Utilities Service, STOP 1522, 1400 Independence Ave., SW., Washington, DC 20250-1522. Fax: (202) 720-3485.

Title: Request for Mail List Data, RUS Form 87.

OMB Control Number: 0572-0051.

Type of Request: Revision of a currently approved information collection.

Abstract: The RUS Form 87 is used for both the Rural Development Electric and Telecommunications programs to obtain the names and addresses of the borrowers' officials with whom they must communicate directly in order to administer the Agency's lending programs. Changes occurring at the borrower's annual meeting (e.g., the selection of board members, managers, attorneys, certified public accountants, or other officials) make necessary the collection of information. Hours are being reduced in the information collection package to accurately reflect the current number of respondents.

Estimate of Burden: Public reporting burden for this collection of information is estimated to average .25 hour per response.

Respondents: Business or other for-profit; Not-for-profit institutions.

Estimated Number of Respondents: 1,150.

Estimated Number of Responses per Respondent: 1.

Estimated Total Annual Burden on Respondents: 288 hours.

Copies of this information collection can be obtained from Joyce McNeil, Program Development and Regulatory Analysis, at (202) 720-0812. Fax: (202) 720-3485. E-mail: joyce.mcneil@wdc.usda.gov.

All responses to this notice will be summarized and included in the request for OMB approval. All comments will also become a matter of public record.

Dated: March 4, 2011.
Jessica Zufolo,
Deputy Administrator, Rural Utilities Service.

[FR Doc. 2011-5499 Filed 3-9-11; 8:45 am]

BILLING CODE 3410-15-P